ENVIRONMENTAL PROTECTION AGENCY

[EPA-HQ-SFUND-2004-0008; FRL-9528-3]

Information Collection Request Submitted to OMB for Review and Approval; Comment Request; Consolidated Superfund Information Collection Request (Renewal)

AGENCY: Environmental Protection Agency (EPA).

ACTION: Notice.

SUMMARY: The Environmental Protection Agency has submitted an information collection request (ICR), “Consolidated Superfund Information Collection Request (Renewal)” (EPA ICR No. 1487.11, OMB Control No. 2050-0179) to the Office of Management and Budget (OMB) for review and approval in accordance with the Paperwork Reduction Act (44 U.S.C. 3501 et seq.). This is a proposed extension of the ICR, which is currently approved through February 28, 2013. It is also a proposed consolidation of three ICR's into one. EPA ICR's No. 1488.08, OMB Control No. 2050-0095 “Superfund Site Evaluation and Hazard Ranking System (Renewal)” and ICR No. 1463.09, OMB Control No. 2050-0096 “National Oil and Hazardous Substance Pollution Contingency Plan (NCP) (Renewal)” are being consolidated into EPA ICR No. 1487.11, OMB Control No. 2050-0179 “Consolidated Superfund Information Collection Request (Renewal).” Public comments were previously requested via the Federal Register (77 FR 47835) on August 10, 2012 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 21, 2013.

ADDRESSES: Submit your comments, referencing Docket ID Number EPA-HQ-SFUND-2004-0008, to (1) EPA online using www.regulations.gov (our preferred method), by email to superfund.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Laura Knudsen, Office of Solid Waste and Emergency Response, Assessment and Remediation Division, (5204P), Environmental Protection Agency, 1200 Pennsylvania Ave. NW., Washington, DC 20460; telephone number: 703-603-8861; fax number: 703-603-9102; email address: knudsen.laura@@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit www.epa.gov/dockets.

Superfund Site Evaluation and Hazard Ranking System (HRS) ICR

Abstract: The Hazard Ranking System (HRS) is a model that is used to evaluate the relative threats to human health and the environment posed by actual or potential releases of hazardous substances, pollutants, and contaminants.

EPA regional offices work with states to determine those sites for which the state will conduct the Superfund site evaluation activities and the HRS scoring. The states are reimbursed 100 percent of their costs, except for record maintenance.

Under this ICR, the states will apply the HRS by identifying and classifying those releases or sites that warrant further investigation. The HRS score is crucial since it is the primary mechanism used to determine whether a site is eligible to be included on the National Priorities List (NPL). Only sites on the NPL are eligible for Superfund-financed remedial actions. HRS scores are derived from the sources described in this information collection, including conducting field reconnaissance, taking samples at the site, and reviewing available reports and documents. States record the collected information on HRS documentation worksheets and include this in the supporting reference package.

National Oil and Hazardous Substances Pollution Contingency Plan (NCP) ICR

Abstract: All remedial actions covered by this ICR (e.g., Remedial Investigations/Feasibility Studies) are stipulated in the statute (CERCLA) and are instrumental in the process of cleaning up National Priorities List (NPL) sites to be protective of human health and the environment. Some community involvement activities covered by this ICR are not required at every site (e.g., Technical Assistance Grants) and depend very much on the community and the nature of the site and cleanup. All community activities seek to involve the public in the cleanup of the sites, gain the input of community members and include the community's perspective on the potential future reuse of the Superfund NPL sites. Community Involvement activities can enhance the remedial process and increase community acceptance and the potential for productive and useful reuse of the sites.

The respondents on whom a burden is placed include state and tribal governments and communities. Potentially Responsible Parties (PRPs) are not addressed in this ICR because the Paperwork Reduction Act does not require the inclusion of those entities that are the subject of administrative or civil action by the Agency. The ICR reports the estimated reporting and recordkeeping burden hours and costs expected to be incurred by these entities and by the Federal government in its oversight capacities of state action and administration of community activities at Fund-lead NPL sites. Remedial activities undertaken by states at NPL sites are those required and recommended by CERCLA and the NCP and the cost of many of these activities may be reimbursed by the Federal government. All community involvement in the remedial process of Superfund is voluntary. Therefore, all cost estimates for community members is theoretical and does not represent expenditure of actual dollars.

States have responsibilities at new and ongoing state-lead sites and at all state-lead, Federal-lead and Federal Facility sites entering the remedial phase of Superfund. All other remedial activities taken by the state are done so at sites which the state voluntarily assumes the lead agency role. Over each year of this ICR, the state will be completing remedial activities at sites that entered the remedial phase of Superfund at different times.

Cooperative Agreements and Superfund State Contracts for Superfund Response Actions (SRA) ICR

Abstract: This ICR authorizes the collection of information under 40 CFR part 35, subpart O, which establishes the administrative requirements for cooperative agreements funded under the Comprehensive Environmental Response, Compensation, and Liability Act (CERCLA) for State, federally-recognized Indian tribal governments, and political subdivision response actions. This regulation also codifies the administrative requirements for Superfund State Contracts for non-State lead remedial responses. This regulation includes only those provisions mandated by CERCLA, required by OMB Circulars, or added by EPA to ensure sound and effective financial assistance management under this regulation. The information is collected from applicants and/or recipients of EPA assistance and is used to make awards, pay recipients, and collect information on how federal funds are being utilized. EPA requires this information to meet its federal stewardship responsibilities. Recipient responses are required to obtain a benefit (federal funds) under 40 CFR part 31, “Uniform Administrative Requirements for Grants and Cooperative Agreements to State and Local Governments” and under 40 CFR part 35, “State and Local Assistance.” An agency may not conduct or sponsor, and a person is not required to respond to, a collection of information unless it displays a currently valid OMB control number. The OMB control numbers for EPA's regulations in 40 CFR are listed in 40 CFR part 9.

Form Numbers: None of the ICR's have forms.

Respondents/affected entities: State, Local or Tribal Governments; Communities; US Territories.

Respondent's obligation to respond: Required to obtain benefits, Mandatory, Voluntary.

Estimated number of respondents: 12,131

Frequency of response: On occasion, Once.

Total estimated burden: 308,458 hours (per year). Burden is defined at 5 CFR 1320.03(b)

Total estimated cost: $481,661.59 (per year), includes $0 annualized capital or operation & maintenance costs.

Changes in the Estimates: There is an increase of 304,269 hours primarily due the consolidation of three ICRs into one (OMB numbers 2050-0179, 2050-0095 and 2050-0096).

John Moses,
Director, Collection Strategies Division.

[FR Doc. 2013-03741 Filed 2-15-13; 8:45 am]

BILLING CODE 6560-50-P